FEDERAL COMMUNICATIONS COMMISSION

47 CFR Part 20

[WT Docket No. 05-265; DA 05-3183]

Reexamination of Roaming Obligations of Commercial Mobile Radio Service Providers

AGENCY: Federal Communications Commission.

ACTION: Proposed rule; extension of reply comment period.

SUMMARY: In this document, the Wireless Telecommunications Bureau extends the period for reply comment on the Notice of Proposed Rulemaking (NPRM) in this proceeding. The deadline to file reply comments is extended from December 27, 2005 to January 26, 2006. The action is taken to respond to a joint request filed on behalf of a number of carriers and trade associations, representing a cross-section of the wireless industry, to extend the reply comment deadline by 30 days.

DATES: Reply comments due January 26, 2006.

ADDRESSES: You may submit reply comments, identified by WT Docket No. 05-265, by any of the following methods:

• Federal eRulemaking Portal: http://www.regulations.gov. Follow the instructions for submitting comments.

• Federal Communications Commission's Web site: http://www.fcc.gov/cgb/ecfs/. Follow the instructions for submitting comments.

• E-mail: Include the docket number(s) in the subject line of the message.

• People with Disabilities: Contact the FCC to request reasonable accommodations (accessible format documents, sign language interpreters, CART, etc.) by e-mail: FCC504@fcc.gov or phone: 202-418-0530 or TTY: 202-418-0432.

FOR FURTHER INFORMATION CONTACT: Eli Johnson at (202) 418-1395, Eli.Johnson@fcc.gov, or Won Kim (202) 418-1368, Won.Kim@fcc.gov, Wireless Telecommunications Bureau, Spectrum and Competition Policy Division.

SUPPLEMENTARY INFORMATION: This proposed rulemaking, 70 FR 56612, September 28, 2005, concerns a decision to examine whether the Commission's current rules regarding roaming requirements applicable to CMRS providers should be modified given the current state of the CMRS market. The full text of the NPRM and comments filed in response to the NRPM are available for public inspection on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Federal Communications Commission.
Catherine W. Seidel,
Acting Chief, Wireless Telecommunications Bureau.

[FR Doc. 06-456 Filed 1-18-06; 8:45 am]

BILLING CODE 6712-01-P